DEPARTMENT OF COMMERCE

National Oceanic and Atmospheric Administration

50 CFR Part 648

[Docket No. 030225045-3096-02; I.D. 020603A]

RIN 0648-AQ29

Magnuson-Stevens Fishery Conservation and Management Act Provisions;Fisheries of the Northeastern United States; Monkfish Fishery; Framework Adjustment 2; Correction

AGENCY: National Marine Fisheries Service (NMFS), National Oceanic and Atmospheric Administration (NOAA), Commerce.

ACTION: Final rule; correction.

SUMMARY: This document corrects a table in the regulatory text of a final rule published April 28, 2003, which implemented Framework Adjustment 2 to the Monkfish Fishery Management Plan (Framework 2). That final rule, which became effective on May 1, 2003, modified the monkfish overfishing definition; established an expedited process for setting annual total allowable catch (TAC) levels; established a method for adjusting monkfish days-at-sea and trip limits to achieve the annual target TACs; and established target TACs and corresponding trip limits for the 2003 fishing year (May 1, 2003 - April 30, 2004). This document corrects an inadvertent error in a table contained in the April 28, 2003, final rule.

DATES: Effective June 20, 2003.

FOR FURTHER INFORMATION CONTACT: Allison Ferreira, Fishery Policy Analyst, (978) 281-9103, fax (978) 281-9135, e-mail Allison.Ferreira@noaa.gov.

>

SUPPLEMENTARY INFORMATION:

Need for Correction

The final rule implementing Framework 2 (68 FR 22325; April 28, 2003) contained an inadvertent error in a table in the regulatory text under 50 CFR 648.96(b)(1)(ii) describing the annual biomass index targets upon which the target TAC setting procedures established in Framework 2 are based. The fishing years referenced in columns 2 through 6 of the table, on page 22330 of the April 28, 2003, Federal Register document, are incorrect. The fishing year in column 2 of the table should read “FY 2002”, not “FY 2003”, and the fishing years in columns 3 through 6 should read “FY 2003”, “FY 2004”, “FY 2005”, and “FY 2006”, respectively. These changes only correct reference points and do not modify any regulatory requirements.

This document corrects the table on page 22330, under 648.96(b)(1)(ii), to read as follows:

PART 648—FISHERIES OF THE NORTHEASTERN UNITED STATES

In § 648.96, paragraph (b)(1)(ii) is corrected to read as follows:

§ 648.96 Monkfish annual adjustment process and framework specifications.

(b)* * *

(1)* * *

(ii) Control rule method for setting annual target TACs. The current 3-year running average of the NMFS fall trawl survey index of monkfish biomass shall be compared to the established annual biomass index target, and target annual TACs will be set in accordance with paragraphs(b)(1)(ii)(A) - (F) of this section. The annual biomass index targets established Frammework Adjustment 2 to the FMP are provided in the following table (kg/tow).

| FY 2002 | FY 2003 | FY 2004 | FY 2005 | FY 2006 | FY 2007 | FY 2008 | FY 2009
NFMA | 1.33 | 1.49 | 1.66 | 1.83 | 2.00 | 2.16 | 2.33 | 2.50
SFMA | 0.88 | 1.02 | 1.15 | 1.29 | 1.43 | 1.57 | 1.71 | 1.85

* * * * *

Dated: June 17, 2003.
Rebecca Lent,
Deputy Assistant Administrator for Regulatory Programs, National Marine Fisheries Service.

[FR Doc. 03-15689 Filed 6-19-03; 8:45 am]

BILLING CODE 3510-22-S